DEPARTMENT OF THE INTERIOR

Fish and Wildlife Service

[FWS-HQ-ES-2013-N133; FF09E00000-134-FXES11130900000]

Proposed Information Collection; Federal Fish and Wildlife Permit Applications and Reports—Native Endangered and Threatened Species

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on December 31, 2013. We may not conduct or sponsor and a person is not required to respond to a collection of information unless it displays a currently valid OMB control number.

DATES: To ensure that we are able to consider your comments on this IC, we must receive them by August 16, 2013.

ADDRESSES: Send your comments on the IC to the Service Information Collection Clearance Officer, U.S. Fish and Wildlife Service, MS 2042-PDM, 4401 North Fairfax Drive, Arlington, VA 22203 (mail); or hope_grey@fws.gov (email). Please include “1018-0094” in the subject line of your comments.

FOR FURTHER INFORMATION CONTACT: To request additional information about this IC, contact Hope Grey at hope_grey@fws.gov (email) or 703-358-2482 (telephone).

SUPPLEMENTARY INFORMATION:

I. Abstract

We use the information that we collect on permit applications to determine the eligibility of applicants for permits requested in accordance with various Federal wildlife conservation laws, including:

• Endangered Species Act (16 U.S.C. 1531 et seq.).

• Migratory Bird Treaty Act (16 U.S.C. 703 et seq.).

• Lacey Act (16 U.S.C. 3371 et seq.).

• Bald and Golden Eagle Protection Act (16 U.S.C. 668).

• Marine Mammal Protection Act (16 U.S.C. 1374).

Service regulations implementing these statutes and treaties are in chapter I, subchapter B of title 50 of the Code of Federal Regulations (CFR). These regulations stipulate general and specific requirements that when met allow us to issue permits to authorize activities that are otherwise prohibited. This IC includes the following permit application forms and the reporting requirements for each permit:

• FWS Form 3-200-54 (Enhancement of Survival Permits Associated with Safe Harbor Agreements and Candidate Conservation Agreements with Assurances).

• FWS Form 200-55 (Permits for Scientific Purposes, Enhancement of Propagation or Survival (i.e., Recovery) and Interstate Commerce).

• FWS Form 3-200-56 (Incidental Take Permits Associated with a Habitat Conservation Plan).

II. Data

OMB Control Number: 1018-0094.

Title: Federal Fish and Wildlife Permit Applications and Reports—Native Endangered and Threatened Species, 50 CFR 13 and 17.

Service Form Number(s): 3-200-54, 3-200-55, and 3-200-56.

Type of Request: Extension of a currently approved collection.

Affected Public: Individuals/households, businesses, State and local agencies, private organizations, and scientific and research institutions.

Respondent's Obligation: Required to obtain or retain a benefit.

Frequency of Collection: On occasion for application forms and notifications; annually for reports.

Activity | Number of respondents | Number of responses | Completion time per response (hours) | Total annual burden hours
3-200-54 permit application | 11 | 11 | 3 | 33
3-200-54 annual report | 64 | 64 | 8 | 512
3-200-54 notifications (incidental take and change in landowner) | 2 | 2 | 1 | 2
2-200-55 permit application | 579 | 579 | 4 | 2,316
3-200-55 annual report | 1,034 | 1,034 | 8 | 8,272
3-200-55 notification (escape of living wildlife) | 1 | 1 | 1 | 1
3-200-56 permit application | 60 | 60 | 3 | 180
3-200-56 annual report | 748 | 748 | 10 | 7,480
Totals | 2,499 | 2,499 |  | 18,796

Estimated Annual Nonhour Burden: $55,000 for fees associated with permit applications.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: June 12, 2013.
Tina A. Campbell,
Chief, Division of Policy and Directives Management, U.S. Fish and Wildlife Service.

[FR Doc. 2013-14269 Filed 6-14-13; 8:45 am]

BILLING CODE 4310-55-P